DEPARTMENT OF TRANSPORTATION

Federal Motor Carrier Safety Administration

[Docket No. FMCSA-2006-25504]

Agency Information Collection Activities; Request for Comments; Renewal of an Information Collection: Medical Qualification Requirements

AGENCY: Federal Motor Carrier Safety Administration (FMCSA), DOT.

ACTION: Notice and request for comments.

SUMMARY: The FMCSA invites comments on its plan to request approval from the Office of Management and Budget (OMB) to renew an information collection concerning the requirements set forth in 49 CFR parts 391 and 398 for the following activities: (1) A medical examination form and certificate to be completed by a licensed medical examiner; (2) The submission of an application to FMCSA for the Agency to resolve conflicts of medical evaluations between medical examiners; (3) A driver qualification (DQ) file for: (a) Motor carriers to include the medical certificate; (b) motor carriers of migrant workers to include a doctor's certificate for every driver employed or used by them; and (c) motor carriers to include a Skill Performance Evaluation (SPE) certificate issued to a driver with a limb disability; and (4) Information collected from carriers, drivers and interested parties used in Agency determinations for granting exemptions from the vision and diabetes requirements in the Federal Motor Carrier Safety Regulations (FMCSRs). This notice is required by the Paperwork Reduction Act of 1995.

DATES: Comments must be submitted on or before December 18, 2006.

ADDRESSES: All comments should reference Docket No. FMCSA-2006-25504. You may mail or hand deliver comments to the U.S. Department of Transportation, Dockets Management Facility, Room PL-401, 400 Seventh Street, SW., Washington, DC 20590; telefax comments to (202) 493-2251; or submit electronically at http://dms.dot.gov. You may examine and copy all comments received at the above address between 9 a.m. and 5 p.m., E.T., Monday through Friday, except Federal holidays. If you desire your comment to be acknowledged, you must include a self-addressed stamped envelope or postcard or, if you submit your comments electronically, you may print the acknowledgment.

FOR FURTHER INFORMATION CONTACT: Dr. Mary D. Gunnels, Chief, Physical Qualifications Division, (202) 366-4001, maggi.gunnels@dot.gov, FMCSA, Department of Transportation, 400 Seventh Street, SW., Washington, DC 20590-0001. Office hours are from 8 a.m. to 5 p.m., ET, Monday through Friday, except Federal holidays.

SUPPLEMENTARY INFORMATION: Title: Medical Qualification Requirements.

OMB Control Number: 2126-0006.

Background: Title 49 U.S.C. 31136 requires the Secretary of Transportation (Secretary) to prescribe regulations to ensure that the physical qualifications of commercial motor vehicle (CMV) operators are adequate to enable them to operate CMVs safely. In addition, 49 U.S.C. 31502 authorizes the Secretary to prescribe requirements for qualifications of employees of a motor carrier when needed to promote safety of operation. Information about an individual's physical condition must be collected in order for the FMCSA and motor carriers to verify that the individual meets the physical qualification standards for CMV drivers set forth in 49 CFR 391.41; and for the FMCSA to determine whether the individual is physically able to operate a CMV safely. This information collection is comprised of the components listed in the summary above.

Respondents: Medical Examiners, Medical Specialists, Physicians, Licensed Doctors of Medicine, Doctors of Osteopathy, Physician Assistants, Advanced Practice Nurses, Doctors of Chiropractic, motor carriers, and CMV drivers.

Estimated Average Burden Per Record: The following records are included in the IC pertaining to the Medical Qualifications Requirements: (1) The Medical Examination Form and Certificate—Twenty minutes for a medical examiner to complete the medical examination form; One minute for the medical examiner to complete the medical examiner's certificate; One minute for carriers to copy and file the medical examiner's certificate in the DQ file; (2) Data Resolving Medical Conflicts—One hour for the Agency to review and resolve an application for resolution of medical conflict; (3) The SPE Certificate—Fifteen minutes for the Agency to review and complete an application for an initial SPE certificate; Two minutes for the Agency to review and complete an application for a renewal of a SPE certificate; One minute for carriers to copy and file the SPE certificate application in the DQ file; (4) Vision Exemptions—Sixty minutes for the Agency to review and complete an application for a vision exemption with required supporting documents, and for carriers to copy and file the documents in the DQ file; (5) Diabetes Exemptions—Ninety minutes for the Agency to review and complete a diabetes exemption with required documentation, and for carriers to copy and file the documents in the DQ file; and (6) The Doctor's Certificate for Motor Carriers of Migrant Workers—One minute for a doctor of medicine or osteopathy to complete a doctor's certificate for drivers of motor carriers of migrant workers; and for carriers to place the certificate in the DQ file for every driver employed or used by them.

Frequency of Response: Biennially, and on occasion, more frequently for drivers who are not eligible to receive a 2-year certificate. A medical certificate usually is valid for 2 years, so FMCSA estimates that half of the drivers subject to its medical standards will take an examination each year. The remaining medical requirements are submitted on occasion by the respondents.

Total Estimated Annual Burden: 1,186,898 hours [1,184,046 hours for medical examination form and certificate (3,229,215 certificates × 22 minutes/60 minutes per hour + 11 hours for resolution of medical conflicts (3 cases × 1 hour each to prepare, plus 8 hours for one hearing) + 92 hours for SPE certificates (2,100 certificates × 1 minute/60 minutes for motor carriers + 1,700 renewals × 2 minutes/60 minutes) + 946 hours for vision exemptions (168 new vision exemptions + 750 vision exemptions × 1 hour each + 28 hours for motor carriers to retain a copy in the driver's DQ file) + 1,800 for diabetes exemptions (1,200 exemptions × 90 minutes/60 minutes) + 3 (or 3.3 rounded) hours for doctors certificate for drivers of migrant workers (100 certificates × 2 minutes/60 minutes) = 1,186,898 hours].

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information. The agency will summarize or include your comments in the request for OMB's clearance of this information collection.

Issued on: October 11, 2006.
John H. Hill,
Administrator.

[FR Doc. E6-17450 Filed 10-18-06; 8:45 am]

BILLING CODE 4910-EX-P